DEPARTMENT OF VETERANS AFFAIRS

[OMB Control No. 2900-New (VA Form 10-0534)]

Agency Information Collection: Emergency Submission for OMB Review (CEPACT (Center for Evaluation of PACT) Demographic Questionnaire and Patient Focus Group); Comment Request

AGENCY: Veterans Health Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). An emergency clearance is being requested for information needed to focus on patient experiences with and views on barriers and facilitators to specific aspects of the Patient-Aligned Care Team (PACT) care model: High risk care management, telemedicine and shared medical appointments.

DATES: Comments must be submitted on or before August 31, 2012.

ADDRESSES: Send comments and recommendations concerning any aspect of the information collection to VA's OMB Desk Officer, OMB Human Resources and Housing Branch, New Executive Office Building, Room 10235, Washington, DC 20503 (202) 395-7316 or Fax (202) 395-6974. Please refer to “2900-New (VA Form 10-0534).

FOR FURTHER INFORMATION CONTACT: Denise McLamb, Enterprise Records Service (005R1B), Department of Veterans Affairs, 810 Vermont Avenue NW., Washington, DC 20420, (202) 632-7479, Fax (202) 632-7583 or email: denise.mclamb@va.gov. Please refer to “OMB Control No. 2900-New (VA Form 10-0534).

SUPPLEMENTARY INFORMATION:

Title: CEPACT (Center for Evaluation of PACT) Demographic Questionnaire, VA Form 10-0534 and Patient Focus Group.

OMB Control Number: 2900-New (VA Form 10-0534).

Type of Review: New data collection.

Abstract: The data collected on VA Form 10-0534 will be used to implement the PACT model that will in turn improve health care for Veterans and sustain VA's leadership in health care quality. This will be done to evaluate the effectiveness of various types of care delivered to patients throughout the PACT model.

Affected Public: Individuals or households.

Estimated Annual Burden: 226.

Estimated Average Burden per Respondent: 85 minutes for focus group; 5 minutes for questionnaire.

Frequency of Response: One-time.

Estimated Number of Respondents: 150.

Estimated Number of Responses: 300.

Dated: August 16, 2012.
By direction of the Secretary.
Denise McLamb,
Program Analyst Director, Enterprise Records Service.

[FR Doc. 2012-20454 Filed 8-20-12; 8:45 am]

BILLING CODE 8320-01-P